DEPARTMENT OF AGRICULTURE

Submission for OMB Review; Comment Request

August 11, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 14, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Imported Seed and Screening.

OMB Control Number: 0579-0124.

Summary of Collection: The United States Department of Agriculture (USDA) is responsible for preventing plant diseases or insect pests from entering the United States, preventing the spread of pests not widely distributed in the United States, and eradicating imported pests when eradication is feasible. Under the authority of the Federal Seed Act of 1939, as amended, the USDA regulates the importation and interstate movement of certain agricultural and vegetable seeds. The USDA Animal & Plant Health Inspection Service (APHIS) Plant Protection and Quarantine (PPQ) Division has established a seed analysis program with Canada that allows U.S. companies that import seed for cleaning or processing to enter into compliance agreements with APHIS. To monitor and ensure compliance with United States agricultural regulations, APHIS will collect information using forms and other information activities.

Need and Use of the Information: APHIS will collect information from forms, correspondence, inspections, and discussions to ensure imported seeds do not pose a threat to U.S. agriculture. If the information were not collected, there would be increased risk of severe economic damage to United States agriculture caused by plant diseases and insect pests.

Description of Respondents: Business or other for-profit; Federal Government.

Number of Respondents: 1,153.

Frequency of Responses: Recordkeeping: Reporting: On occasion.

Total Burden Hours: 9,632.

Animal and Plant Health Inspection Service

Title: Importation of Beef and Ovine Meat from Uruguay and Beef from Argentina and Brazil.

OMB Control Number: 0579-0372.

Summary of Collection: The Animal Health Protection Act (AHPA) of 2002 (7 U.S.C. 8301), is the primary Federal law governing the protection of animal health. The law gives the Secretary of Agriculture broad authority to detect, control, or eradicate pests or diseases of livestock or poultry. The agency charged with carrying out this disease prevention mission is the Animal and Plant Health Inspection Service (APHIS). Disease prevention is the most effective method for maintaining a healthy animal population and enhancing APHIS' ability to compete globally in animal and animal product trade. APHIS import regulations in sections 94.1, 9 CFR 94.11, and 9 CFR 94.29 place certain restrictions on the importation of beef and ovine meat from Uruguay into the United States. Under these regulations, APHIS must collect information (via a Foreign Meat Inspection Certificate), prepared by an authorized veterinary official of the Government of Argentina and Brazil, certifying that specific conditions for importation have been met.

Need and Use of the Information: Imported beef and ovine meat from Uruguay and imported beef from northern Argentina and imported beef from the specific regions in Brazil must be accompanied by a foreign meat inspection certificate that is completed and signed by an authorized veterinary official of the Government of Uruguay, Argentina, and Brazil. Without the information, APHIS would be unable to establish an effective defense against the entry and spread of foot-and-mouth disease and other animal diseases from Uruguay beef and ovine product imports as well as imports of beef and beef products from Argentina and Brazil.

Description of Respondents: Federal Government; Business or Other for Profit.

Number of Respondents: 6,019.

Frequency of Responses: Recordkeeping; Reporting: On occasion.

Total Burden Hours: 10,044.

Ruth Brown,
Departmental Information Collection Clearance Officer.

[FR Doc. 2020-17795 Filed 8-13-20; 8:45 am]

BILLING CODE 3410-34-P